FEDERAL HOUSING FINANCE BOARD

Sunshine Meeting; Notice Announcing an Open Meeting of the Board

TIME AND DATE: 10 A.M., Wednesday, December 5, 2001.

PLACE: Board Room, Second Floor, Federal Housing Finance Board, 1777 F Street, N.W., Washington, DC 20006.

STATUS: The entire meeting will be open to the public.

MATTERS TO BE CONSIDERED DURING PORTIONS OPEN TO THE PUBLIC:

• Final Rule: Unsecured Credit Limits for the Federal Home Loan Banks

• Waiver of Compliance with the Minimum Liquidity Requirements of § 932.8 and the Unsecured Credit Limits of § 932.9

• Proposed Rule: Amendments to the Affordable Housing Program

CONTACT PERSON FOR MORE INFORMATION: Elaine L. Baker, Secretary to the Board, (202) 408-2837.

James L. Bothwell,
Managing Director.

[FR Doc. 01-29773 Filed 11-27-01; 2:08 pm]

BILLING CODE 6725-01-P